DEPARTMENT OF AGRICULTURE

Agricultural Research Service

Government Owned Inventions Available for Licensing

AGENCY: Agricultural Research Service, USDA.

ACTION: Notice of government owned inventions available for licensing.

SUMMARY: The inventions listed below are owned by the U.S. Government as represented by the Department of Agriculture, and are available for licensing in accordance with 35 U.S.C. 207 and 37 CFR part 404 to achieve expeditious commercialization of results of federally funded research and development. Foreign patents are filed on selected inventions to extend market coverage for U.S. companies and may also be available for licensing.

FOR FURTHER INFORMATION CONTACT: Technical and licensing information on these inventions may be obtained by writing to June Blalock, Technology Licensing Program Coordinator, USDA, ARS, Office of Technology Transfer, 5601 Sunnyside Avenue, Room 4-1174, Beltsville, Maryland 20705-5131; telephone: 301-504-5989 or fax: 301-504-5060. Issued patents may be obtained from the Commissioner of Patents, U.S. Patent and Trademark Office, Washington, DC 20231.

SUPPLEMENTARY INFORMATION: The inventions available for licensing are:

S.N. 09/701,868, “Genes Coding for Tomato B-Galactosidase Polypeptides”

S.N. 09/748,036, “Urea And Nitrogen Based Compounds As Feeding Stimulants/Aggregants And Masking Agents Of Unpalatable Chemicals For Subterranean Termites”

S.N. 09/751,397, “Waxy Wheat Products And Processes For Producing Same”

S.N. 09/752,704, “Method And Compositions For Attracting Mosquitoes”

S.N 09/757,686, “Method For Produce Sanitation Using Bacteriophages”

S.N. 09/819,387, “Compositions And Methods For Reducing Rna Virus Pathogenicity”

S.N. 09/826,146, “Utilization Of Invertebrate Learning For Flexible And Sensitive Monitoring And Identification Of Chemicals”

S.N. 09/828,634, “Composites Comprising Plant Material From Parthenium Spp. And Plastic”

S.N. 09/832,211, “Method Of Detaching Microorganisms From, Or Of Inhibiting Microbial Attachment To, Animal Or Poultry Carcasses Or Seafood Or Parts Thereof”

S.N. 09/838,382, “Production Of An Immunovariant Strain Of Eimeria Maxima Contributes To Strain Cross-Protection With Other Eimeria Maximas”

S.N. 09/907,818, “Pcr Methods For The Identification, Detection, And Discrimination Of The Soybean Rust Pathogens”

S.N. 09/912,448, “Synergistic Combinations Of Natural Compounds That Control Decay Of Fruits And Vegetables And Reduce Contamination By Foodborne Human Pathogens”

S.N. 09/915,840, “Piggybac Transformation System”

S.N. 09/989,889, “Flexible And Absorbent Alginate Wound Dressing”

S.N. 10/013,456, “Epitope Tagging Of Recombinant Fusion Proteins For Assay Of Protein Expression In Transgenic Plants”

S.N. 10/020,505, “Rabbiteye Blueberry Named “ ‘Alapaha’ ”

S.N. 10/078,001, “Mass Uniformity/Drafting Load Analyzer”

S.N. 10/078,628, “Method Of Weed Control”

S.N. 10/101,840, “Piggybac Transformation System”

S.N. 10/101,943, “Water-In-Oil Emulsion Vaccines”

S.N. 10/127,603, “Methods And Compositions For Controlling Coleopteran Infestations”

S.N. 10/128,463, “Foot And Mouth Disease Virus Vaccine”

S.N. 10/135,503, “Sensor Output Analog Processing-A Microcontroller-Based Insect Monitoring System”

S.N. 10/137,113, “Mycobacterial Diagnostics”

S.N. 10/140,817, “Biological Control Of Postharvest Decay Of Fruit Using Strains Of Metschnikowia Species”

S.N. 10/145,787, “Insect Trap”

S.N. 10/148,351, “Resistance Genes”

S.N. 10/160,948, “Genetic Markers For Improved Disease Resistance In Animals (Nramp1)”

S.N. 10/161,588, “Detection Of Infectious Haematopoietic Necrosis Virus”

S.N. 10/161,968, “Genetic Markers For Improved Disease Resistance In Animals (Bpi)”

S.N. 10/189,251, “Vaccine For The Prevention Of Bacterial Infection Of The Bovine Mammary Gland”

S.N. 10/192,762, “Animal Feed Compositions And Methods For Using The Same”

S.N. 10/205,871, “Degradation Of Cercosporin By Laccase”

S.N. 10/225,419, “Extraction And Concentration Method”

S.N. 10/227,727, “Use Of Plant-Derived Oils For Reduction Of Odor Gases From Waste”

S.N. 10/235,132, “Modified Alternan”

S.N. 10/245,072, “Attractant Phereomone For The Colorado Potato Beetle”

S.N. 10/245,698, “A Genetically Distinct Strain Of Channel Catfish, Designated Nwac103, With Improved Growth Performance”

S.N. 10/247,739, “Device For Extending Duration Of Volatile Liquid Lures”

S.N. 10/251,107, “Vaccine Compositions And Adjuvant”

S.N. 10/262,937, “Epoxidation Of Carbon-Carbon Double Bond With Membrane Bound Peroxygenase”

S.N. 10/319,986, “Use Of 2-Nitropropanol, 2-Nitroethane And 2-Nitroethanol For Control Of Microbial Pathogens”

S.N. 10/324,034, “Expression Of Antimicrobial Peptides In Yeast”

S.N. 10/331,861, “Selection Procedure For Identifying Transgenic Cells, Embryos, And Plants Without The Use Of Antibiotics”

S.N. 10/350,591, “Microorganism For Biological Abatement Of Inhibitors In Toxic Fermentation Substrates”

S.N. 10/359,674, “Insect Trap”

S.N. 10/366,115, “Diamond Row Pattern Planter”

S.N. 10/404,409, “In-Situ Production Of Fatty Acid Alkyl Esters”

S.N. 10/407,668, “Prebiotic Oligosaccharides Via Alternansucrase Acceptor Reactions”

S.N. 10/417,747, “Baiting System For Suppressing Populations Of Insects Such As Mediterranean And Carribean Fruit Flies (Diptera: Tephritidae)”

S.N. 10/427,500, “Apparatus And Method To Treat Materials For Pest Control And Storage”

S.N. 10/455,439, “Pcr Primers And Probes For The Detection Of Xylella Fastidiosa”

S.N. 10/462,882, “Novel Sunscreen Reagents From Hydroxy Substituted Acylglycerides”

S.N. 10/463,491, “Novel Sunscreen Reagents From Unsaturated Waxes And Triglycerides”

S.N. 10/600,360, “Organophosphate Insecticide Synergists For Fly And Tick Control”

S.N. 10/629,668, “The Green Peach Aphid Densovirus And Methods Of Its Use As A Biological Control”

S.N. 10/637,922, “Attractants For Moths”

S.N. 10/657,300, “Cellulose/Clay Nanocomposites”

S.N. 10/659,509, “Mimetic Insect Allatostatin Analogs For Insect Control”

S.N. 10/662,914, “Improving Aspergillus Niger Phya Phytase By Protein Engineering”

S.N. 10/670,575, “High Efficiency Electrostatic Air Sampler”

S.N. 10/678,023, “Chromobacterium Suttsuga Sp. Nov. And Use For Control Of Insect Pests”

S.N. 10/698,398, “Synthesis Of Polysuccinimide And Copoly(Succinimide-Aspartate) In A Supercritical Fluid”

S.N. 10/721,881, “Fecundity-Promoting Factor For The Insidiosus Flower Bug Reared On Artificial Diet”

S.N. 10/803,121, “Insect Attractant Releasing Device”

S.N. 10/819,615, “Pyrolytic Products From Poultry Manure”

S.N. 10/833,903, “Vaccine Compositions And Adjuvant”

S.N. 10/836,164, “Genes Coding For Tomato B-Galactosidase Polypeptides”

S.N. 10/838,752, “Wood Adhesives Containing Solid Residues Of Biomass Fermentations”

S.N. 10/849,977, “Formation Of Hydrophilic Polysaccharide Coatings Of Hydrophobic Substrate”

S.N. 10/858,761, “Vaccine Compositions And Adjuvant”

S.N. 10/858,882, “A Modified-Live Edwardsiella Tarda Vaccine For Aquatic Animals”

S.N. 10/863,939, “A Sensitive Antibody-Based Method For Detecting Cryptosporidium Parvum Oocysts In Water”

S.N. 10/870,781, “Method Of Protecting Fish Against Columnaris Disease With Modified Live Flavobacterium Columnare”

S.N. 10/887,277, “Water-In-Oil Emulsion Vaccines”

S.N. 10/895,797, “Methods For Prevention And Treatment Of Mastitis”

P.N. 15,216, “Peach Tree Named ‘Crimson Rocket' ”

P.N. 15,063, “Peach Tree Named ‘Sweet-N-Up' ”

P.N. 6,362,256, “Biodegradable Polymer Compositions, Methods For Making Same And Articles Therefrom”

P.N. 6,418,750, “Multi-Purpose Cryogenic Surface Device”

P.N. 6,442,920, “Mechanical Harvester For Tree Fruits”

P.N. 6,454,098, “Mechanical-Pneumatic Device To Meter, Condition, And Classify Chaffy Seed”

P.N. 6,479,275, “Penicillium Isolates For Modifying Alternan”

P.N. 6,485,949, “Epoxidation Of Carbon-Carbon Double Bond With Membrane Bound Peroxygenase”

P.N. 6,492,537, “Solvent Fractionation Of Menhaden Oil And Partially Hydrogenated Menhaden Oil For Making Lipid Compositions Enriched In Unsaturated Fatty Acid-Containing Triacylglycerols”

P.N. 6,502,531, “Device And Method For Examination And Handling Of Deer And Other Animals”

P.N. 6,506,597, “Artificial Diets For Arthropods”

P.N. 6,521,229, “A 41 Kda Cryptosporidium Parvum Oocyst Wall Protein”

P.N. 6,528,049, “Novel Bisexual Attractants, Aggregants And Arrestants For Adults And Larvae Of Codling Moth And Other Species Of Lepidoptera”

P.N. 6,548,742, “Development Of Resistance To Raspberry Bushy Dwarf Virus”

P.N. 6,551,007, “Improved Joint For Connecting Wood Members”

P.N. 6,551,599, “Monoclonal Antibodies Against Camplobacter Jejuni and Campylobacter Coli Outer Membrane Antigens”

P.N. 6,555,106, “System For The Control Of Enteropathogenic Bacteria In The Crops Of Poultry”

P.N. 6,559,121, “Vaccines For The Protection Of Cattle From Psoroptic Scabies”

P.N. 6,562,600, “Production Of Cyclic Alternan Tetrasaccharides From Oligosaccharide Substrates”

P.N. 6,562,841, “Methods And Compositions For Repelling Arthropods”

P.N. 6,586,628, “3-Methoxybenzyl Thiourea Derivatives And Improved Lipid Compositions Containing Same”

P.N. 6,605,283, “Nucleotide Sequence For The Avian Metapneumovirus (Colorado) Attachment Glycoprotein Gene”

P.N. 6,622,565, “Fluid Pressure Measurement By Mechanical Compression Of Tubing”

P.N. 6,623,779, “Intermediate-Moisture Formed Food Products Made From Partially Dehydrated Fruit And/Or Vegetables And Novel Methods Of Packing Thereof”

P.N. 6,644,905, “Bin Filler For Fruit Crops”

P.N. 6,660,775, “Method And Compositions For Inhibiting The Scent Tracking Ability Of Biting Midges”

P.N. 6,669,962, “Starch Microcapsules For Delivery Of Active Agents”

P.N. 6,670,374, “Swainsonine Compounds As Inhibitors Of Toxin Receptor Expression”

P.N. 6,673,566, “Diagnosis Of Tuberculosis Infection Through Analysis Of Nitrite Production Of Leukocytes Stimulated With Mycobacterial Antigens”

P.N. 6,677,469, “Supercritical Fluid Fractionation Process For Phytosterol Ester Enrichment In Vegetable Oils”

P.N. 6,691,453, “Naphtalene And Naphthenate Derivates As Bait Toxicants For Subterranean Termites”

P.N. 6,691,563, “A Universal Dielectric Calibration Method And Apparatus For Moisture Content Determination In Particulate And Granular Materials”

P.N. 6,692,963, “Method Of Reproducing Plants By Somatic Embryogenesis”

P.N. 6,694,862, “Accessible Hand Pump”

P.N. 6,696,282, “Fusarium Sporotrichioides Strains For Production Of Lycopene”

P.N. 6,696,562, “Avian Astrovirus”

P.N. 6,703,014, “Attractants And Repellants For Colorado Potato Beetle”

P.N. 6,707,384, “Sensor Output Analog Processing—A Microcontroller-Based Insect Monitoring System”

P.N. 6,709,763, “Formation Of Hydrophilic Polysaccharide Coatings On Hydrophobic Substrates”

P.N. 6,710,166, “A 41 Kda Cryptosporidium Parvum Oocyst Wall Protein”

P.N. 6,733,976, “Detection Of Bacterial Kidney Disease”

P.N. 6,770,440, “Polymerase Chain Reaction Assay For The Detection Of Toxoplasma Gondii”

P.N. 6,773,727, “Use Of Gossypol And Related Terpenes For Control Of Urban And Agricultural Pests”

P.N. 6,777,573, “A Method For The Synthesis Of Ceralure B1”

June Blalock,
Technology Licensing Program Coordinator.

[FR Doc. 04-28058 Filed 12-22-04; 8:45 am]

BILLING CODE 3410-03-P